DEPARTMENT OF AGRICULTURE

U.S. Codex Office

Codex Alimentarius Commission: Meeting of the Codex Committee on Food Additives

AGENCY: U.S. Codex Office, USDA.

ACTION: Notice of public meeting and request for comments.

SUMMARY: The U.S. Codex Office is sponsoring a public meeting on May 11, 2021. The objective of the public meeting is to provide information and receive public comments on agenda items and draft United States (U.S.) positions to be discussed at the 52nd Session of the Codex Committee on Food Additives (CCFA) of the Codex Alimentarius Commission. The U.S. Manager for Codex Alimentarius and the Acting Under Secretary for Trade and Foreign Agricultural Affairs recognize the importance of providing interested parties the opportunity to obtain background information on the 52nd Session of the CCFA and to address items on the agenda.

DATES: The public meeting is scheduled for May 11, 2021, from 9:00 a.m. to 12:00 p.m. EDT.

ADDRESSES: The public meeting will take place virtually. Documents related to the 52nd Session of the CCFA will be accessible via the internet at the following address: http://www.fao.org/fao-who-codexalimentarius/meetings/en/. Dr. Paul Honigfort, U.S. Delegate to the 52nd Session of the CCFA, invites U.S. interested parties to submit their comments electronically to the following email address: ccfa@cfsan.fda.gov.

Call-In-Number: If you wish to participate in the public meeting for the 52nd Session of the CCFA by conference call, please join the Zoomgov Meeting at https://fda.zoomgov.com/j/1617528805; or Dial-in US Toll-free at (833)568-8864; Meeting ID: 161 752 8805.

Registration: Attendees may register to attend the meeting by emailing Dr. LaShonda Cureton at ccfa@cfsan.fda.gov by May 10, 2021. Early registration is encouraged.

FOR FURTHER INFORMATION CONTACT:

For Further Information about the 52nd Session of the CCFA and the Public Meeting, contact U.S. Delegate, Dr. Paul Honigfort by phone at: +1 (240) 402-1206 or by email at Paul.Honigfort@fda.hhs.gov, or Alternate U.S. Delegate, Dr. Daniel Folmer by phone +1 (240) 402-1274 or email Daniel.Folmer@fda.hhs.gov.

For Further Information about the public meeting Contact: Dr. LaShonda Cureton by phone at +1 (240)402-1351 or by email at Lashonda.Cureton@fda.hhs.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The Terms of Reference of the Codex Committee on Food Additives are:

(a) To establish or endorse permitted maximum levels for individual food additives;

(b) to prepare priority lists of food additives for risk assessment by the Joint FAO/WHO Expert Committee on Food Additives;

(c) to assign functional classes to individual food additives;

(d) to recommend specifications of identity and purity for food additives for adoption by the Commission;

(e) to consider methods of analysis for the determination of additives in food; and

(f) to consider and elaborate standards or codes for related subjects such as the labelling of food additives when sold as such.

The CCFA is hosted by China. The United States attends the CCFA as a member country of Codex.

Issues To Be Discussed at the Public Meeting

The following items on the Agenda for the 52nd Session of the CCFA will be discussed during the public meeting:

• Matters Referred by the Codex Alimentarius Commission and other subsidiary bodies

• Matters of Interest arising from FAO/WHO and from the 87th Meeting of the Joint FAO/WHO Expert Committee on Food Additives (JECFA)

• Proposed draft specifications for identity and purity of food additives arising from the 87th JECFA meeting

○ Comments at Step 3

• Endorsement and/or revision of maximum levels for food additives and processing aids in Codex standards

• Alignment of the food additive provisions of commodity standards:

○ Report of the Electronic Working Group (EWG) on Alignment

• General Standard for Food Additives (GSFA): Report of the EWG on the GSFA

• General Standard for Food Additives: Proposals for new and/or revision of food additive provisions (replies to Circular Letter (CL) 2019/40-FA)

• Continuation of the discussion on the relevant provisions for sweeteners associated with Note 161

• General information on the availability of data related to nitrates and nitrites (replies to CL 2019/49-FA)

• Proposed draft revision to the International Numbering System (INS) for Food Additives (CAC/GL 36-1989)

○ Comments at Step 3

• Proposals for additions and changes to the Priority List of Substances proposed for evaluation by JECFA (replies to CL 2019/41-FA)

• Status and analysis of the GSFA online system in relation to the approach of not listing relevant commodity standards

• Other Business and Future Work

Public Meeting

At the May 11, 2021, public meeting, draft U.S. positions on the agenda items will be described and discussed, and attendees will have the opportunity to pose questions and offer comments. Written comments may be offered at the meeting or sent to Dr. Paul Honigfort, U.S. Delegate for the 52nd Session of the CCFA (see ADDRESSES). Written comments should state that they relate to activities of the 52nd Session of the CCFA.

Additional Public Notification

Public awareness of all segments of rulemaking and policy development is important. Consequently, the U.S. Codex Office will announce this Federal Register publication on-line through the USDA web page located at: http://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on March 10, 2021.
Mary Lowe,
U.S. Manager for Codex Alimentarius.

[FR Doc. 2021-05439 Filed 3-16-21; 8:45 am]

BILLING CODE P